ENVIRONMENTAL PROTECTION AGENCY

[FRL-7575-2]

State Innovation Grant Program, Notice of Availability of Solicitation for Proposals for 2003/2004 Awards

AGENCY: Environmental Protection Agency (EPA).

ACTION: Notice.

SUMMARY: The U.S. Environmental Protection Agency, Office of Policy, Economics and Innovation (OPEI) is giving notice of the availability of its solicitation for proposals for the 2003/2004 grant program to support innovation by State environmental regulatory agencies—the “State Innovation Grant Program.” The solicitation is available at the Agency's State Innovation Grant Web site: http://www.epa.gov/innovation/stategrants, or may be requested from the Agency by e-mail, telephone, or by mail. Only the principal environmental regulatory agency within each State (generally, where delegated authorities for Federal environmental regulations exist) is eligible to receive these grants.

DATES: State environmental regulatory agencies will have 68 days (until January 7, 2004) from the date of publication of the solicitation on the Web site (October 30, 2003) to respond with a pre-proposal, budget, and project summary. The environmental regulatory agencies from the fifty (50) States; Washington, DC, and four (4) territories were notified of the solicitation's availability by fax and email transmittals on October 30, 2003.

ADDRESSES: Copies of the Solicitation can be downloaded from the Agency's Web site at: http://www.epa.gov/innovation/stategrants/2003solicitation or may be requested by telephone (202-566-2182), or by e-mail (Innovation_State_Grants@epa.gov). Proposals submitted in response to this solicitation, or questions concerning the solicitation should be sent to:

State Innovation Grant Program, Office of Policy, Economics and Innovation, U.S. Environmental Protection Agency (1807T), 1200 Pennsylvania Avenue, NW., Washington, DC 20460.

Proposal responses or questions may also be sent by fax to (202-566-2220), addressed to the “State Innovation Grant Program,” or by e-mail to: Innovation_State_Grants@epa.gov. We encourage e-mail responses. If you have questions about responding to this notice, please contact EPA at this e-mail address or fax number, or you may call Gerald Filbin at 202-566-2182. EPA will acknowledge all responses it receives to this notice.

SUPPLEMENTARY INFORMATION:

Background: In Fall of 2002, EPA conducted a competition for a new grant program designed to support innovation in environmental programs at the State level. Following the pilot round of State Innovation Grants in 2002, EPA consulted with the States through the Environmental Council of the States and through a comment period announced in the Federal Register (68 FR 34944, June 11, 2003) (see http://www.epa.gov/innovation/stategrants on the grant solicitation process). Based upon that input EPA made several improvements in the process for this year—including a pre-announcement process that would allow time for States to consult with EPA Regions on potential projects prior to the solicitation, and a change from a 30-day to a 60-day response period once the solicitation is announced. One of the recommendations from the consultation was to incorporate State input into the selection of topic areas for subsequent solicitations, to ensure that State priorities were considered in projects that EPA selected.

There was support from a large number of the responding States for maintaining innovation in permitting as a subject of the next solicitation, in order to create a stable resource base for an area that is core to the innovation efforts in most States. Within this topic there was considerable support for EPA assistance to the States for implementation of Environmental Management Systems (EMS) relating to permitting (see: http://www.epa.gov/ems/ and Environmental Results Programs (ERPs) (see: http://www.epa.gov/ooaujeag/permits/masserp.htm). There were other topics suggested by the States—including a few topics that were suggested by more than one State, but because of the strong support for the innovation in permitting topic, and the relatively small amount of funding anticipated this year for the program, EPA was concerned that too many topics might diffuse the resources available and prohibit adequate funding for projects of significant scale. Several of the other topics suggested may in fact, be eligible for support through other EPA assistance programs. The State Innovation Grant Program will try to provide some flexibility around the “innovation in permitting” theme for a variety of projects, although permitting programs or alternatives to permitting programs will be at the core of projects we select.

Dated: October 9, 2003.
Christopher Knopes,
Associate Director, Office of Environmental Policy Innovation.

[FR Doc. 03-27486 Filed 10-30-03; 8:45 am]

BILLING CODE 6560-50-P